DEPARTMENT OF TRANSPORTATION

Office of the Secretary

In the Matter of the Commuter Air Carrier Authority of Samoa Aviation, Inc.

AGENCY: Department of Transportation.

ACTION: Notice of Order to Show Cause (Order 2003-4-6), Docket OST-2003-14871.

SUMMARY: The Department of Transportation is directing all interested persons to show cause why it should not issue an order that (1) finds that Samoa Aviation, Inc., has failed to demonstrate that it continues to meet the Department's fitness standards, and (2) revokes the company's commuter air carrier authority.

DATES: Persons wishing to file objections should do so no later than April 18, 2003.

ADDRESSES: Objections and answers to objections should be filed in Docket and addressed to the Department of Transportation Dockets (M-30, Room PL-401), U.S. Department of Transportation, 400 Seventh Street, SW., Washington, DC 20590, and should be served upon the parties listed in Attachment A to the order.

FOR FURTHER INFORMATION CONTACT: Ms. Delores King, Air Carrier Fitness Division (X-56, Room 6401), U.S. Department of Transportation, 400 Seventh Street, SW., Washington, DC 20590, (202) 366-2343.

Dated: April 4, 2003.
Read C. Van De Water,
Assistant Secretary for Aviation and International Affairs.

[FR Doc. 03-8812 Filed 4-9-03; 8:45 am]

BILLING CODE 4910-62-M